NATIONAL AERONAUTICS AND SPACE ADMINISTRATION

[13-007]

Information Collection

AGENCY: National Aeronautics and Space Administration (NASA).

ACTION: Notice.

SUMMARY: The National Aeronautics and Space Administration, as part of its continuing effort to reduce paperwork and respondent burden, invites the general public and other Federal agencies to take this opportunity to comment on proposed and/or continuing information collections, as required by the Paperwork Reduction Act of 1995.

DATES: All comments should be submitted within 60 calendar days from the date of this publication.

ADDRESSES: All comments should be addressed to Frances Teel, National Aeronautics and Space Administration, 300 E Street SW., Washington, DC 20546-0001.

FOR FURTHER INFORMATION CONTACT: Requests for additional information or copies of the information collection instrument(s) and instructions should be directed to Frances Teel, NASA Clearance Officer, NASA Headquarters, 300 E Street SW., JF0000, Washington, DC 20546, (202) 358-2225.

SUPPLEMENTARY INFORMATION:

I. Abstract

NASA collects information to ensure proper accounting of Federal funds and property provided under grants and cooperative agreements with state and local governments.

II. Method of Collection

Submission of almost all information required under grants or cooperative agreements with state and local governments, including property, financial, and performance reports, is electronic.

III. Data

Title: Grants and Cooperative Agreements with State and Local Governments.

OMB Number: 2700-0093.

Type of review: Revision of currently approved collection.

Affected Public: State, Local or Tribal Governments.

Estimated Number of Respondents: 30.

Estimated Time per Response: Proposals, 40 hours; Requests for Payments, 12 hours; Financial Reports, 6 hours; Property Reports, 4 hours; Patent Reports, 1 hour; Performance Reports, 4 hours and; Changes, 1 hour. Total is 68 hours.

Estimated Total Annual Public Burden Hours: 2,040 hours.

Estimated Total Annual Public Cost: $69,360.

Estimated Total Annual Government Burden Hours: 1800.

Estimated Total Annual Government Cost: $ 61,200.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances C. Teel,
NASA PRA Clearance Officer.

[FR Doc. 2013-02341 Filed 1-31-13; 8:45 am]

BILLING CODE 7510-13-P